DEPARTMENT OF LABOR

Employment and Training Administration

Investigations Regarding Certifications of Eligibility To Apply for Worker Adjustment Assistance

Petitions have been filed with the Secretary of Labor under section 221(a) of the Trade Act of 1974 (“the Act”) and are identified in the appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 30, 2004.

Interested persons are invited to submit written comments regarding the subject matter of the investigations to the Director, Division of Trade Adjustment Assistance, at the address shown below, not later than December 30, 2004.

The petitions filed in this case are available for inspection at the Office of the Director, Division of Trade Adjustment Assistance, Employment and Training Administration, U.S. Department of Labor, Room C-5311, 200 Constitution Avenue, NW., Washington, DC 20210.

Signed at Washington, DC this 10th day of December, 2004.
Timothy Sullivan,
Director, Division of Trade Adjustment Assistance.

Appendix
[Petitions instituted between 11/29/2004 and 12/03/2004]
TA-W | Subject firm (petitioners) | Location | Date of institution | Date of petition
56,094 | AT&T (CWA) | Charleston, WV | 11/29/2004 | 11/24/2004
56,095 | Nidec America Corporation (State) | Torrington, CT | 11/29/2004 | 11/26/2004
56,096 | Gasque Plumbing (Wkrs) | Myrtle Beach, SC | 11/29/2004 | 11/19/2004
56,097 | Foley Wood Products, Inc. (Comp) | Ellsworth, WI | 11/29/2004 | 11/23/2004
56,098 | International Textile Group (Comp) | Burlington, NC | 11/29/2004 | 11/19/2004
56,099 | Kenro, Inc. (Div. of Carlisle Companies) (UNITE) | Fredonia, WI | 11/29/2004 | 11/23/2004
56,100 | CHF Industries (Wkrs) | Loris, SC | 11/29/2004 | 11/23/2004
56,101 | Concord Fabrics, Inc. (Wkrs) | Milledgeville, GA | 11/30/2004 | 11/18/2004
56,102 | DSM Elastomers (State) | South Addis, LA | 11/30/2004 | 11/18/2004
56,103 | Cherry Electrical Products (Wkrs) | Waukegan, IL | 11/30/2004 | 11/11/2004
56,104 | Pentair Pump (UAW) | Ashland, OH | 11/30/2004 | 11/15/2004
56,105 | Vision AIR (Wkrs) | Castle Hayne, NC | 11/30/2004 | 11/19/2004
56,106 | Eaton Corporation (PACE) | Cleveland, OH | 11/30/2004 | 11/24/2004
56,107 | MI Home Products, Inc. (Wkrs) | Hegins, PA | 11/30/2004 | 11/22/2004
56,108 | Atlas Copco Compressors, Inc. (Wkrs) | Holyoke, MA | 12/01/2004 | 11/17/2004
56,109 | Bonifay Manufacturing, Inc. (State) | Bonifay, FL | 12/01/2004 | 11/30/2004
56,110 | Broyhill National Veneer Plant (Wkrs) | Lenoir, NC | 12/01/2004 | 11/19/2004
56,111 | New Dana Corporation (Wkrs) | Mountaintop, PA | 12/01/2004 | 11/23/2004
56,112 | Radisys (State) | Hillsboro, OR | 12/02/2004 | 11/23/2004
56,113 | Murray, Inc. (Wkrs) | Lawrenceburg, TN | 12/01/2004 | 11/15/2004
56,114 | MMC Bidding, Inc., Div. of Bourns (Wkrs) | New Berlin, WI | 12/01/2004 | 11/30/2004
56,115 | Action Knitwear, Inc. (Comp) | Bean Station, TN | 12/01/2004 | 11/19/2004
56,116 | Northwestern Ag (Comp) | Chattaroy, WA | 12/01/2004 | 11/29/2004
56,117 | Peco Manufacturing, Inc. (State) | Portland, OR | 12/01/2004 | 11/22/2004
56,118 | Johnson and Johnson (Comp) | Royston, GA | 12/01/2004 | 11/11/2004
56,119 | Osram Sylvania (Comp) | Waldoboro, ME | 12/02/2004 | 11/30/2004
56,120 | Seneca Foods (Wkrs) | Walla Walla, WA | 12/02/2004 | 11/30/2004
56,121 | Robert Bosch Tool Co. (State) | Heber Springs, AR | 12/02/2004 | 12/02/2004
56,122 | Siemens Energy and Automation, Inc. (Comp) | Tucker, GA | 12/03/2004 | 11/18/2004
56,123 | Wellington Cordage, LLC (Comp) | Greensboro, GA | 12/03/2004 | 11/09/2004
56,124 | Associated Rubber Company (Comp) | Calhoun, GA | 12/03/2004 | 12/02/2004
56,125 | Caledonza Two (State) | Andrews, SC | 12/03/2004 | 12/02/2004
56,126 | Teleflex Automotive, Inc. (State) | Waterbury, CT | 12/03/2004 | 12/01/2004
56,127 | Standard Corporation A Uti Worldwide Co. (State) | Kinston, NC | 12/03/2004 | 11/22/2004
56,128 | UFE, Inc. (State) | River Falls, WI | 12/03/2004 | 11/03/2004
56,129 | Dimensions Acquisition LLC (Wkrs) | Woburn, MA | 12/03/2004 | 11/22/2004
56,130 | Beacon Looms, Inc. (State) | Teaneck, NJ | 12/03/2004 | 12/01/2004
56,131 | Independence Regional Health Center (State) | Independence, MO | 12/03/2004 | 11/24/2004
56,132 | Floyd Manufacturing Co., Inc. (Comp) | E. Berlin, CT | 12/03/2004 | 11/15/2004
56,133 | Eisenberg International Corp. (State) | San Fernando, CA | 12/03/2004 | 11/09/2004
56,134 | Tyco Electronics (Comp) | Watertown, SD | 12/03/2004 | 12/02/2004
56,135 | Motorola Inc./Freescale Semiconductor ((Wkrs) | Tempe, AZ | 12/03/2004 | 12/03/2004
56,136 | GretagMacbeth, LLC (Comp) | New Windsor, NY | 12/03/2004 | 12/01/2004
56,137 | Gates Corporation (Comp) | Galesburg, IL | 12/03/2004 | 12/02/2004
56,138 | Money's Foods U.S., Inc. Allegan County (Wkrs) | Fennville, MI | 12/03/2004 | 11/24/2004

[FR Doc. 04-27748 Filed 12-17-04; 8:45 am]

BILLING CODE 4510-30-M